DEPARTMENT OF AGRICULTURE

Forest Service

Giant Sequoia National Monument Management Plan EIS

AGENCY: USDA Forest Service.

ACTION: Notice of intent to prepare an environmental impact statement.

SUMMARY: The Department of Agriculture, Forest Service is preparing an environmental impact statement (EIS) to establish management direction for the land and resources within the Giant Sequoia National Monument (GSNM) created by Presidential Proclamation on april 15, 2000. The Forest Service, as the responsible agency, proposes to amend the Sequoia National Forest Land and Resource Management Plan (FLMP) to provide for the protection of the objects of interest identified in the Proclamation.

DATES: The draft EIS for the Giant Sequoia National Monument Management Plan is expected to be available for public comment in the early spring of 2009; the final EIS and Record of Decision (ROD) are expected to be published in the fall of 2009. Soon after the ROD is published, a separate document representing the Management Plan in non-technical language will be published.

ADDRESSES: Tina Terrell, Forest Supervisor, USDA Forest Service, Sequoia National Forest, 1839 South Newcomb Street, Porterville, CA 93257.

FOR FURTHER INFORMATION CONTACT: Julie Allen, Land Management Planning Staff Officer, Sequoia National Forest, at the address listed above. The phone number is (559) 784-1500. Information regarding the monument and the planning process can also be found on the Giant Sequoia National Monument website located at http://www.fs.fed.us./r5/sequoia/gsnm.

SUPPLEMENTARY INFORMATION:

Background

On April 15, 200, a Presidential Proclamation creating the Giant Sequoia National Monument was signed. The Proclamation designated 327,769 acres within the boundary of the Sequoia National Forest as a National Monument to provide protection for a variety of objects of historic and scientific interest, including giant sequoia trees and their surrounding ecosystem. The plan will provide for and encourage continued public access and use consistent with the purposes of the Giant Sequoia National Monument. A range of alternatives will be analyzed, including the no-action alternative, which is the current management direction.

Purpose and Need for Action

The Presidential Proclamation creates a national monument recognizing and protecting forever its unique resources. The proclamation also clearly identifies opportunities for scientific research, interpretation, recreation, and the need for a transportation plan. We are committed to preparing a management plan that is responsive to these needs and opportunities and that cares for the objects of interest as identified in the proclamation.

Within the context of the Proclamation's statement of need, we are committed to developing the proposed action and alternatives to it through a comprehensive, inclusive, collaborative process involving stakeholders. This collaborative process will be facilitated largely by a third party neutral associated with the U.S. Institute for Environmental Conflict Resolution, an organization chartered by Congress for the purpose of resolving multi-party environmental issues and disputes. Because the Giant Sequoia National Monument is a unique treasure of international interest, it deserves the very best planning approach possible. We believe that the very best management will result from this innovative, collaborative approach which taps the knowledge and creative energy of those who know and love the giant sequoias.

In the National Environmental Policy Act (NEPA) process terms, this Notice of Intent initiates the scoping period. We expect the scoping period to last up to one year during which there will be a variety of meetings and workshops. The collaborative process will thereby be the focus, but not the sole means, of this extended scoping period during which the proposed action will be developed and planning issues identified. Notification of scoping activities will be posted on the Web site, http://www.fs.fed.us/r5/sequoia/gsnm, and advertised through the media. The collaborative process will continue to play a role through development of the draft and final environmental impact statements.

Current Management Direction

Until a new Monument Management Plan is implemented, current management direction for the GSNM includes the Presidential Proclamation, the Sequoia National Forest Land and Resource Management Plan, as amended by the Sierra Nevada Forest Plan Amendment (2001), and the Mediated Settlement Agreement.

Commenting

Comments received in response to public scoping or any future solicitation for public comments on a draft EIS, including names and addresses of those who comment, will be considered part of the public record and will be available for public inspection. Comments submitted anonymously will be accepted and considered. Additionally, pursuant to 7 CFR 1.27(d), any person may request the agency to withhold a submission from the public record by showing how the Freedom of Information Act (FOIA) permits such confidentiality. Persons requesting such confidentiality should be aware that under the FOIA confidentiality may be granted in only very limited circumstances, such as to protect trade secrets. The Forest Service will inform the requester of the agency's decision regarding the request for confidentiality, and where the request is denied; the agency will return the submission and notify the requester that the comments may be resubmitted with or without name and address.

The comment period on the draft EIS will be 90 days from the date the Environmental Protection Agency publishes the notice of availability in the Federal Register.

The Forest Service believes that, at this early stage, it is very important to give reviewers notice of several court rulings related to public participation in the environmental review process. First, reviewers of a draft EIS must structure their participation in the environmental review of the proposal so that it is meaningful and alerts the agency to the reviewer's position and contentions. Vermont Yankee Nuclear Power Corp. v. NRDC, 435 U.S. 519, 533 (1978). Also, environmental objections that could be raised at the draft EIS stage, but that are not raised until after completion of the final EIS, may be waived or dismissed by the courts. City of Angoon v. Hodel, 803 F.2d 1016, 1022 (9th Cir. 1986) and Wisconsin Heritages, Inc. v. Harris, 490 F. Supp. 1334 (E.D. Wis. 1980). Because of these court rulings, it is very important that persons interested in this proposed action participate by the close of the 90-day comment period on the draft EIS so that substantive comments and objections are made available to the Forest Service at a time when it can meaningfully consider them and respond to them in the final EIS.

To assist the Forest Service in identifying and considering issues and concerns on the proposed action, comments on the draft environmental impact statement should be as specified as possible. It is also helpful if comments refer to specific pages or chapters of the draft statement. Comments may also address the adequacy or the merits of the alternatives formulated and discussed in the statement. Reviewers may wish to refer to the Council on Environmental Quality Regulations for implementing the procedural provisions of the National Environmental Policy Act at 40 CFR 1503.3 in addressing these points.

Dated: January 30, 2008.
Tina J. Terrell,
Forest Supervisor, Sequoia National Forest, USDA Forest Service.

[FR Doc. 08-489 Filed 2-4-08; 8:45 am]

BILLING CODE 3410-11-M